NUCLEAR REGULATORY COMMISSION

Workshop on Key Issues Related to the Licensing of Future Non-Light Water Reactors; Correction

AGENCY: Nuclear Regulatory Commission.

ACTION: Notice of intent; correction.

SUMMARY: This document corrects a document appearing in the Federal Register on September 26, 2002 (67 FR 60702), that informs the public that the NRC has underway preapplication reviews of advanced reactor designs. This action is necessary to correct an erroneous address for the meeting location.

ADDRESSES: The workshop will be held at the Double Tree Hotel, 1750 Rockville Pike, Rockville, Maryland.

FOR FURTHER INFORMATION CONTACT: Dr. Farouk Eltawila, Director, Division of Systems Analysis and Regulatory Effectiveness, Office of Nuclear Regulatory Research, Mail Stop T-10 F32, telephone (301) 415-7499; Internet: FXE@nrc.gov, U.S. Nuclear Regulatory Commission, Washington, DC 20555-0001.

SUPPLEMENTARY INFORMATION: On page 60702, the ADDRESSES heading is corrected to read as set forth above.

Dated at Rockville, Maryland, this 2nd day of October, 2002.
For the Nuclear Regulatory Commission.
Michael T. Lesar,
Chief, Rules and Directives Branch, Division of Administrative Services, Office of Administration.

[FR Doc. 02-25389 Filed 10-4-02; 8:45 am]

BILLING CODE 7590-01-P